DEPARTMENT OF HEALTH AND HUMAN SERVICES

Centers for Disease Control and Prevention

Board of Scientific Counselors, National Center for Injury Prevention and Control, (BSC, NCIPC)

Correction: This notice was published in the Federal Register on June 11, 2013, Volume 78, Number 112, Pages 35036-35037. The closing date for receipt of nominations was inadvertently omitted. Nominations must be submitted (postmarked or electronically received) by July 26, 2013.

Contact Person for More Information: Paul Middendorf, Senior Health Scientist, 1600 Clifton Rd. NE., MS: E-20, Atlanta, GA 30329; telephone (404) 498-2548 (this is not a toll-free number); email: pmiddendorf@cdc.gov.

The Director, Management Analysis and Services Office, has been delegated the authority to sign Federal Register notices pertaining to announcements of meetings and other committee management activities, for both the Centers for Disease Control and Prevention, and Agency for Toxic Substances and Disease Registry.

Elaine L. Baker,
Director, Management Analysis and Services Office, Centers for Disease Control and Prevention.

[FR Doc. 2013-14781 Filed 6-20-13; 8:45 am]

BILLING CODE 4163-18-P